DEPARTMENT OF HEALTH AND HUMAN SERVICES

Centers for Disease Control and Prevention

Science and Program Review Subcommittee (SPRS) and the Advisory Committee for Injury Prevention and Control (ACIPC): Meetings

In accordance with section 10(a)(2) of the Federal Advisory Committee Act (Pub. L. 92-463), the Centers for Disease Control and Prevention (CDC) announces the following Subcommittee and Committee meetings.

Name: Science and Program Review Subcommittee to ACIPC.

Time and Dates: 6:30 p.m.-9 p.m., June 22, 2003; 9 a.m.-12 p.m., June 23, 2003.

Place: The Westin Atlanta Airport, 4736 Best Road, Atlanta, Georgia 30337, telephone (404) 762-7676.

Status: Open: 6:30 p.m.-7 p.m., June 22, 2003.

Closed: 7 p.m.-9 p.m., June 22, through 12 p.m., June 23, 2003.

Purpose: The Subcommittee provides advice on the needs, structure, progress, and performance of the National Center for Injury Prevention and Control (NCIPC) programs. They also provide second-level scientific and programmatic review for applications for research grants, cooperative agreements, and training grants related to injury control and violence prevention, and recommends approval of projects that merit further consideration for funding support. The Subcommittee advises on priorities for research to be supported by contracts, grants, and cooperative agreements, and provides concept review of program proposals and announcements.

Matters To Be Discussed: Agenda items include updates on research and review activities, the role of secondary reviewers, and date for secondary review of Special Emphasis Panels (SEPs). Beginning at 7 p.m., June 22, through 12 p.m., June 23, 2003, the Subcommittee will begin the secondary review which includes discussion and evaluation of results of the Injury Research Grant Review Committee's (IRGRC) review of a new application received from the University of Pittsburgh Injury Control Research Center (Announcement #03008); and R49s (individual research grant applications received and reviewed by IRGRC in response to Program Announcements #03023, Acute Care, Rehabilitation and Disability Prevention Research; #03024, Violence-Related Injury Prevention Research (Intimate Partner Violence and Sexual Violence); #03027, New Investigator Training Awards for Unintentional Injury, Violence Related Injury, Biomechanics, Acute Care, Disability, and Rehabilitation-Related Research; #03028, Traumatic Injury Biomechanics Prevention Research; #03033, Dissemination Research of Effective Interventions; #03036, Dissertation Awards for Doctoral Candidates for Violence-Related Injury Prevention Research in Minority Communities; #03035, National Academic Centers of Excellence on Youth Violence Prevention; and secondary review, discussion, and evaluation of Small Business Innovation Research applications reviewed by the National Institutes of Health. This portion of the meeting will be closed to the public in accordance with provisions set forth in section 552b(c)(4) and (6), title 5 U.S.C., and the Determination of the Director, Management Analysis and Services Office, CDC, pursuant to Public Law 92-463.

Name: Advisory Committee for Injury Prevention and Control.

Time and Date: 1 p.m.-2:30 p.m., June 23, 2003.

Place: The Westin Atlanta Airport, 4736 Best Road, Atlanta, Georgia 30337, telephone (404) 762-7676.

Status: Open: 1 p.m.-1:45 p.m., June 23, 2003.

Closed: 1:45 p.m.-2:30 p.m., June 23, 2003.

Purpose: The Committee advises and makes recommendations to the Secretary, Health and Human Services, the Director, CDC, and the Director, NCIPC, regarding feasible goals for the prevention and control of injuries. The Committee makes recommendations regarding policies, strategies, objectives, and priorities, and reviews progress toward injury prevention and control. The Committee provides advice on the appropriate balance of intramural and extramural research, and provides guidance on the needs, structure, progress and performance of intramural programs, and on extramural scientific program matters. The Committee provides second-level scientific and programmatic review for applications for research grants, cooperative agreements, and training grants related to injury control and violence prevention, and recommends approval of projects that merit further consideration for funding support. The Committee also recommends areas of research to be supported by contracts and cooperative agreements, and provides concept review of program proposals and announcements.

Matters To Be Discussed: Agenda items include an update on Center activities from the Deputy Director, NCIPC. Beginning at 1:45 p.m., June 23, 2003, through 2:30 p.m., the Committee will vote on results of the secondary review. This portion of the meeting will be closed to the public in accordance with provisions set forth in section 552b(c)(4) and (6), title 5 U.S.C., and the Determination of the Director, Management Analysis and Services Office, CDC, pursuant to Public Law 92-463. Agenda items are subject to change as priorities dictate.

Note: Due to program oversight, this Federal Register Notice is being published less than 15 days before the date of the meeting.

Contact Person for More Information: Ms. Louise Galaska, Executive Secretary, ACIPC, NCIPC, CDC, 4770 Buford Highway, NE., M/S K02, Atlanta, Georgia 30341-3724, telephone 770/488-4694.

The Director, Management Analysis and Services Office, has been delegated the authority to sign Federal Register notices pertaining to announcements of meetings and other committee management activities, for both CDC and the Agency for Toxic Substances and Disease Registry.

Dated: June 6, 2003.
Alvin Hall,
Director, Management Analysis and Services Office, Centers for Disease Control and Prevention.

[FR Doc. 03-14925 Filed 6-12-03; 8:45 am]

BILLING CODE 4163-18-P